COMMITTEE FOR THE IMPLEMENTATION OF TEXTILE AGREEMENTS

New Export Visa and Certification Stamps for Certain Textiles and Textile Products Produced or Manufactured in Japan

February 18, 2000.

AGENCY: Committee for the Implementation of Textile Agreements (CITA).

ACTION: Issuing a directive to the Commissioner of Customs providing for the use of a new export visa stamp and a new certification stamp.

EFFECTIVE DATE: April 1, 2000.

FOR FURTHER INFORMATION CONTACT: Ross Arnold, International Trade Specialist, Office of Textiles and Apparel, U.S. Department of Commerce, (202) 482-4212.

SUPPLEMENTARY INFORMATION:

Authority: Executive Order 11651 of March 3, 1972, as amended; section 204 of the Agricultural Act of 1956, as amended (7 U.S.C. 1854); Uruguay Round Agreements Act.

Three of the textile visa issuing bodies for Japan are being merged into one and will use one stamp for goods exported on and after April 1, 2000. That is, the Japan Textiles Exporters‘ Association, the Japan Textile Products Exporters Association, and the Japan Woolen & Linen Textiles Exporters Association will merge into one organization: the Japan Textiles Exporters Association. Also, a fourth textile visa issuing body, Japan General Merchandise Exporters‘ Association, will no longer be authorized to issue visas for Japan.

Effective on April 1, 2000, goods exported on and after April 1, 2000 must be accompanied by the textile visa or exempt certification with the “Japan Textiles Exporters Association” name on it. The requirement that both of these stamps be in blue ink remains. There will be a grace period from April 1, 2000 through April 30, 2000. Goods exported prior to April 1, 2000, and during the one-month grace period may be allowed entry with either the new “Japan Textiles Exporters Association” textile visa or exempt certification, or the old visa with “The Japan Textiles Exporters’ Association”, the “Japan Textile Products Exporters Association”, the “Japan Woolen & Linen Textiles Exporters Association”, or the “Japan General Merchandise Exporters' Association” name on the visa stamp, or the old exempt certification stamp with “The Japan Textile Products Exporters Association” name on it. Goods exported on and after May 1, 2000 must have either a valid visa or exempt certification with the “Japan Textiles Exporters Association” name on it.

See 52 FR 4639, published on February 13, 1987; 54 FR 31069, published on July 26, 1989; and 62 FR 10027, published on March 5, 1997.

Troy H. Cribb,
Chairman, Committee for the Implementation of Textile Agreements.

Committee for the Implementation of Textile Agreements

February 18, 2000.

Commissioner of Customs,

Department of the Treasury, Washington, DC 20229.

Dear Commissioner: This directive amends, but does not cancel, the directive issued to you on February 6, 1987, as amended, by the Chairman, Committee for the Implementation of Textile Agreements. That directive directed you to prohibit entry of certain textiles and textile products, produced or manufactured in Japan for which the Government of Japan has not issued an appropriate visa or exempt certification.

Three of the textile visa issuing bodies for Japan are being merged into one and will use one stamp for goods exported on and after April 1, 2000. That is, the Japan Textiles Exporters‘ Association, the Japan Textile Products Exporters Association, and the Japan Woolen & Linen Textiles Exporters Association will merge into one organization: the Japan Textiles Exporters Association. Also, a fourth textile visa issuing body, Japan General Merchandise Exporters‘ Association, will no longer be authorized to issue visas for Japan.

Effective on April 1, 2000, goods exported on and after April 1, 2000 must be accompanied by the textile visa or exempt certification with the “Japan Textiles Exporters Association” name on it. The requirement that both of these stamps be in blue ink remains. There will be a grace period from April 1, 2000 through April 30, 2000. Goods exported prior to April 1, 2000, and during the one-month grace period may be allowed entry with either the new “Japan Textiles Exporters Association” textile visa or exempt certification, or the old visa with “The Japan Textiles Exporters’ Association”, the “Japan Textile Products Exporters Association”, the “Japan Woolen & Linen Textiles Exporters Association”, or the “Japan General Merchandise Exporters' Association” name on the visa stamp, or the old exempt certification stamp with “The Japan Textile Products Exporters Association” name on it. Goods exported on and after May 1, 2000 must have either a valid visa or exempt certification with the “Japan Textiles Exporters Association” name on it.

Shipments entered or withdrawn from warehouse according to this directive which are not accompanied by an appropriate export visa shall be denied entry and a new visa must be obtained.

The Committee for the Implementation of Textile Agreements has determined that this action falls within the foreign affairs exception to the rulemaking provisions of 5 U.S.C. 553(a)(1).

Sincerely,

Troy H. Cribb,
Chairman, Committee for the Implementation of Textile Agreements.

(Japan Textiles Exporters Association)

(Japan Textiles Exporters Association)

[FR Doc. 00-4473 Filed 2-24-00; 8:45 am]

BILLING CODE 3510-DR-F